NATIONAL AERONAUTICS AND SPACE ADMINISTRATION

[Notice (02-091)]

Notice of Prospective Patent License

AGENCY: National Aeronautics and Space Administration.

ACTION: Notice of Prospective Patent License.

SUMMARY: NASA hereby gives notice that AirFlow Catalyst Systems, Inc., of Rochester, New York, has applied for an exclusive license to practice the inventions described and claimed in U.S. Patent No. 6,132,694 (NASA Case Number LAR 15652-1), entitled “Catalyst for Oxidation of Volatile Organic Compounds;” NASA Case Number LAR 16307-1-SB, entitled “Methodology for the Effective Stabilization of Tin-Oxide Based Oxidation/Reduction Catalysts,” and NASA Case Number LAR 16390-1-SB, entitled “Ruthenium Stabilization Mechanism for Next Generation Oxidation and Reduction Catalyst Systems,” for which two United States Patent Applications were filed by the United States of America as represented by the Administrator of the National Aeronautics and Space Administration; and NASA Invention Disclosure Case Numbers LAR 16001-1, LAR 16308-1-CU, and LAR 16117-1-SB, entitled “Catalyst for Treatment and Control of Post-Combustion Emissions,” “Catalyst for Decomposition of Nitrogen Oxides,” and “Sol-Gel Based Methodology for the Preparation of Oxidation/Reduction Catalysts,” respectively. Written objections to the prospective grant of a license should be sent to Langley Research Center. NASA has not yet made a determination to grant the requested license and may deny the requested license even if no objections are submitted within the comment period.

DATES: Responses to this notice must be received by August 8, 2002.

FOR FURTHER INFORMATION CONTACT: Helen M. Galus, Patent Attorney, Langley Research Center, Mail Stop 212, Hampton, VA 23681-2199; telephone 757-864-3227; fax 757-864-9190.

Dated: July 19, 2002.
Paul G. Pastorek,
General Counsel.

[FR Doc. 02-18733 Filed 7-23-02; 8:45 am]

BILLING CODE 7510-01-P